DEPARTMENT OF TRANSPORTATION

National Highway Traffic Safety Administration

49 CFR Part 571

Federal Motor Vehicle Safety Standards

AGENCY: National Highway Traffic Safety Administration (NHTSA), Department of Transportation (DOT).

ACTION: Denial of petition for rulemaking.

SUMMARY: This document denies a petition for rulemaking submitted by Mr. Albert Donnay requesting NHTSA to require manufacturers to offer carbon monoxide detectors in all new gasoline powered vehicles and to make available retrofit devices for older vehicles. These detectors would automatically shut off the engine when carbon monoxide levels inside the vehicle exceed a concentration of 200 parts per million, when the vehicle is stationary. The data show that a mandate for in-vehicle carbon monoxide detectors would fail to address more than 70% of vehicle-related carbon monoxide deaths, because the victims are outside the vehicle. NHTSA will use its resources to consider safety areas where more effective solutions are available.

FOR FURTHER INFORMATION CONTACT: Mr. John Lee, Office of Crash Avoidance Standards, NVS-123, National Highway Traffic Safety Administration, 400 7th Street, SW., Washington, DC 20590. Telephone: (202) 366-2720. Fax: (202) 366-7002.

For legal issues: Mr. George Feygin, Office of Chief Counsel, NCC-112, National Highway Traffic Safety Administration, 400 7th Street, SW., Washington, DC 20590. Telephone: (202) 366-2992. Fax: (202) 366-3820.

SUPPLEMENTARY INFORMATION: On January 12, 2001, Mr. Albert Donnay submitted a petition for rulemaking requesting that NHTSA: (1) Issue annual press releases on the dangers of vehicle carbon monoxide ¹ (CO) poisoning and recommend the use of CO detectors, (2) report CO vehicle-related fatalities (suicide, unintentional, in moving and stationary vehicles), (3) fund research on CO poisoning in vehicles, (4) require information on the dangers of carbon monoxide poisoning be included in owners' manuals and (5) require manufacturers to install CO detectors in all new gasoline powered vehicles and offer equivalent devices for older vehicles. These detectors would have the capability to cut-off the engine when carbon monoxide levels inside the vehicle exceed a concentration of 200 parts per million (ppm) for a stationary vehicle. In moving vehicles the occupants would be directed to open a window immediately when an audio and visual warning is given off by the detector when CO level reached 10 ppm. In support of his petition, Mr. Donnay cited two NHTSA Research Notes, “Fatalities Associated With Carbon Monoxide Poisoning From Motor Vehicles in 1993” December 1996,² and “Fatalities Associated With Carbon Monoxide Poisoning From Motor Vehicles, 1995-1997” April 2000.³

¹ Carbon monoxide is a colorless, odorless gas that is contained in the exhaust of gasoline powered motor vehicles. When inhaled in sufficient quantities, carbon monoxide can cause illness or death.

² The December 1996 Research Note reported data collected by the National Center for Health Statistics (NCHS) on the estimated number of people killed as a result of CO poisoning by exhaust gases from motor vehicles in 1993. The study examined factors such as stationary and moving vehicles, unintentional and suicidal CO deaths, season of the year, and vehicle location. NCHS reported that in 1993, 1,978 deaths occurred while the vehicle was in the stationary position. Eighty-four percent of the deaths were the result of suicide, 12 percent were accidental and 3 percent were of unknown intent. The annual average of accidental fatalities in stationary vehicles for 1993 was 245.

³ The April 2000 Research Note reported an annual average of 222 accidental fatalities associated with CO poisoning for stationary vehicles for a period between 1995 and 1997. The data from the April 2000 Research Note indicated a decline in accidental fatalities in stationary vehicles from 234 CO fatalities in 1995 to 208 CO fatalities in 1997.

The agency is denying the petition for the reasons explained below. We began our consideration of the petition by reviewing the data. In May 2004, the agency published a more comprehensive study of injuries and fatalities resulting from, among other things, CO poisoning.⁴ This study was based on a review of 1998 death certificates from 35 states. The results of the study found that CO deaths most often do not involve moving vehicles, but rather vehicles left running in enclosed spaces. There were 140 deaths associated with vehicle generated carbon monoxide poisoning found in the death certificates reviewed. Of the 140 deaths, 41 deaths (29%) occurred while the individual was sitting in the vehicle. The other 71% of deaths involved people outside the vehicle. One hundred twenty-nine of the fatalities (92%) occurred in a garage, home, or residence. Most of the scenarios involved someone working on a vehicle with the vehicle running in a closed garage, or a death in a residence when someone left a vehicle running in a garage attached to the home. A review of scientific literature cited in the report found, “Unintentional poisonings from vehicle-generated carbon monoxide diminished toward the close of the 20th century, with a particular decline in these types of incidents noted in the years following 1975 when catalytic converters were introduced into automobiles. The steady decline from 4.0 to 0.9 deaths per 1 million person-years since 1975 represents a 76.3 percent decrease. The total number of 1998 unintentional motor vehicle related deaths from carbon monoxide has been reported at 238.” Thus, there is a decline in vehicle-related CO deaths absent any regulation. In addition, the data about vehicle-related CO deaths indicate a home CO detector would be substantially more effective than a vehicle CO detector at preventing these deaths because 92% of the fatalities occurred at the home.

⁴ “Non-Traffic Death and Injury Data Collection Study,” see http://www.nhtsa.dot.gov/cars/problems/studies/NonTraffic-NonCrash/Images/noncrash.pdf.

Further, we note that NHTSA has previously denied a petition for rulemaking that is substantially similar to Mr. Donnay's petition,⁵ because the costs far exceeded the expected benefits. Specifically, the agency denied a petition for rulemaking submitted by Mr. Herb Denenberg, which requested that: (1) The agency require carbon monoxide detectors in all new motor vehicles; (2) the agency require manufacturers to offer optional carbon monoxide detectors in all new motor vehicles, (3) the agency require that the owners' manuals indicate the availability and value of installing a carbon monoxide detector; and (4) the agency issue press releases and consumer advisories with information regarding the availability and value of CO detectors. The petitioner cited the results of the 1996 Research Note and stated, “many if not most of these deaths could be prevented by carbon monoxide detectors,” but did not offer any data to support this assertion. NHTSA denied the Denenberg petition because the costs would have been unjustifiable ⁶ in relation to the benefits. The effectiveness of CO detectors lessens substantially over time and most vehicle-related CO deaths involve older vehicles.

⁵ See 62 FR 49190, September 19, 1997.

⁶ We estimated that the total cost of the requirement would exceed $240 million. This estimate does not include the cost of installation and maintenance.

The agency is denying this petitioner's request for the same reasons. In addition to our previously stated reasons for denying the petition, the agency is also concerned that the automatic engine shut-off device proposed by the petitioner could prove to be a hazard. For example, in a tunnel with congested traffic, the concentration of CO may cause the device to shut off the engine, resulting in further traffic congestion or even possible crashes.

In accordance with 49 CFR part 552, this completes the agency's technical review of the petition for rulemaking from Mr. Albert Donnay. Based on this review, the agency has concluded its resources would be more productively directed to other areas. Therefore, Mr. Donnay's petition is denied.

Issued on: September 20, 2005.
Stephen R. Kratzke,
Associate Administrator for Rulemaking.

[FR Doc. 05-19214 Filed 9-26-05; 8:45 am]

BILLING CODE 4910-59-P